DEPARTMENT OF ENERGY

Federal Energy Regulatory Commission

[Docket No. RP07-511-000]

El Paso Natural Gas Company; Notice of Technical Conference

September 25, 2007.

Take notice that a technical conference will be held on Wednesday, October 10, 2007, at 9 a.m., in a room to be designated at the offices of the Federal Energy Regulatory Commission, 888 First Street, NE., Washington, DC 20426.

The technical conference will address all issues raised by El Paso Natural Gas Company's filing and how the filing relates to prior Commission orders and policy.

FERC conferences are accessible under section 508 of the Rehabilitation Act of 1973. For accessibility accommodations please send an e-mail to accessibility@ferc.gov or call toll free (866) 208-3372 (voice) or 202-502-8659 (TTY), or send a fax to 202-208-2106 with the required accommodations.

All interested parties and staff are permitted to attend. For further information please contact April Ballou at (202) 502-6537 or e-mail April.Ballou@ferc.gov.

Kimberly D. Bose,
Secretary.

[FR Doc. E7-19767 Filed 10-5-07; 8:45 am]

BILLING CODE 6717-01-P